DEPARTMENT OF DEFENSE

Department of the Navy

Notice of Public Meetings for the Draft Supplemental Environmental Impact Statement/Overseas Environmental Impact Statement for Mariana Islands Training and Testing

AGENCY: Department of the Navy, DoD.

ACTION: Notice.

SUMMARY: Pursuant to section 102(2)(c) of the National Environmental Policy Act (NEPA) of 1969, as implemented by the Council on Environmental Quality, and Presidential Executive Order (E.O.) 12114, the Department of the Navy (DoN) has prepared and filed with the U.S. Environmental Protection Agency a Draft Supplemental Environmental Impact Statement/Overseas Environmental Impact Statement (EIS/OEIS). In the Draft Supplemental EIS/OEIS, the DoN reassesses the potential environmental impacts associated with conducting ongoing and future military readiness activities, which includes training activities and research, development, testing, and evaluation activities (referred to as “testing activities”) conducted at sea and on Farallon de Medinilla (FDM) within the Mariana Islands Training and Testing (MITT) Study Area (hereafter referred to as the Study Area) beyond 2020. In the Draft Supplemental EIS/OEIS, the DoN evaluates new, relevant information, such as more recent marine mammal density data and new scientific information, and updates the environmental analyses as appropriate. The DoN prepared the Draft Supplemental EIS/OEIS to support the issuance of federal regulatory permits and authorizations under the Marine Mammal Protection Act and the Endangered Species Act. The National Marine Fisheries Service (NMFS) is a cooperating agency for this Supplemental EIS/OEIS.

DATES: This notice announces the public comment period and the dates and locations of the public meetings, includes information about how the public can review and comment on the document, and provides supplementary information about the environmental planning effort. All comments must be postmarked or received online by March 18, 2019, Chamorro Standard Time, for consideration in the Final Supplemental EIS/OEIS. Federal and local agencies and officials, and interested organizations and individuals, are encouraged to provide substantive comments on the Draft Supplemental EIS/OEIS during the public review period or in person at one of the scheduled open house public meetings.

ADDRESSES: Public meetings will be held in an open-house format, with DoN representatives available to provide information and answer questions related to the Draft Supplemental EIS/OEIS. Open house public meetings will be held on Guam and Saipan. The public may arrive at any time during the open house, as there will not be a presentation or formal oral comment session. Open house public meetings will be held on the following dates and at the following locations:

1. 5:00 to 8:00 p.m. February 26, 2019, at University of Guam, Jesus & Eugenia Leon Guerrero School of Business and Public Administration Building, Anthony Leon Guerrero Multi-Purpose Room 129 and Henry Sy Atrium, Mangilao, Guam 96923.

2. 5:00 to 8:00 p.m. February 27, 2019, at Kanoa Resort Saipan, Seaside Hall, Beach Road in Susupe, Saipan, MP 96950.

Attendees will be able to submit written comments during the open house public meetings. A stenographer will be available for attendees wishing to provide oral comments, one-on-one. Equal weight will be given to oral and written comments. Comments may also be mailed to Naval Facilities Engineering Command Pacific, Attention: MITT Supplemental EIS/OEIS Project Manager, 258 Makalapa Drive, Suite 100, Pearl Harbor, HI 96860-3134, or electronically via the project website at www.MITT-EIS.com. All comments, written or oral, submitted during the public comment period will become part of the public record and substantive comments will be addressed in the Final Supplemental EIS/OEIS.

FOR FURTHER INFORMATION CONTACT: Naval Facilities Engineering Command Pacific, Attention: MITT Supplemental EIS/OEIS Project Manager, 258 Makalapa Drive, Suite 100, Pearl Harbor, HI 96860-3134.

SUPPLEMENTARY INFORMATION: The Draft Supplemental EIS/OEIS was distributed to federal and local agencies with which the DoN consulted. Copies of the Draft Supplemental EIS/OEIS are available for public review at the following public libraries:

1. Robert F. Kennedy Memorial Library, University of Guam, UOG Station, Mangilao, GU 96923-1871.

2. Nieves M. Flores Memorial Library, 254 Martyr Street, Hagåtña, GU 96910-5141.

3. Tinian Public Library, San Jose Village, Tinian, MP 96952-9997.

4. Antonio C. Atalig Memorial Library (Rota Public Library), Rota, MP 96951-9997.

5. Joeten-Kiyu Public Library, Insatto Street, Saipan, MP 96950-9996.

The MITT Draft Supplemental EIS/OEIS is available for electronic viewing or download at www.MITT-EIS.com. A compact disc of the Draft Supplemental EIS/OEIS will be made available upon written request by contacting: Naval Facilities Engineering Command Pacific, Attention: MITT Supplemental EIS/OEIS Project Manager, 258 Makalapa Drive, Suite 100, Pearl Harbor, HI 96860-3134.

Dated: January 25, 2019.
M.S. Werner,
Commander, Judge Advocate General's Corps, U.S. Navy, Federal Register Liaison Officer.

[FR Doc. 2019-00368 Filed 1-30-19; 8:45 am]

BILLING CODE 3810-FF-P